FEDERAL COMMUNICATIONS COMMISSION

Sunshine Act Meeting; Open Commission Meeting; Thursday, September 23, 2010

Date: September 16, 2010.

The Federal Communications Commission will hold an Open Meeting on the subjects listed below on Thursday, September 23, 2010, which is scheduled to commence at 10:30 am in Room TW-C305, at 445 12th Street, SW., Washington, DC.

ITEM NO. | BUREAU | SUBJECT
1 | OFFICE OF ENGINEERING AND TECHNOLOGY | TITLE: Unlicensed Operation in the TV Broadcast Bands (ET Docket No. 04-186); Additional Spectrum for Unlicensed Devices Below 900 MHz and in the 3 GHz Band (ET Docket No. 02-380) SUMMARY: The Commission will consider a Second Memorandum Opinion and Order addressing 17 petitions for reconsideration of the rules adopted in this proceeding to make unused spectrum in the TV bands available for unlicensed broadband wireless devices while protecting incumbent services.
2 | WIRELINE COMPETITION | TITLE: Schools and Libraries Universal Service Support Mechanism (CC Docket No. 02-6); A National Broadband Plan for our Future (GN Docket No. 09-51) SUMMARY: The Commission will consider a Report and Order that improves connectivity for students and library patrons, and accelerates the National Broadband Plan's goal of affordable access to 1 gigabit per second broadband at community anchor institutions across the country, by upgrading, modernizing, and streamlining the E-Rate program.
3 | PUBLIC SAFETY & HOMELAND SECURITY | TITLE: Wireless E911 Location Accuracy Requirements (PS Docket No. 07-114) SUMMARY: The Commission will consider a Second Report and Order that enables a more effective emergency response system by establishing a timeline and benchmarks for wireless carriers to provide more granular E911 location information at either a county-based or PSAP-based geographic level.
4 | PUBLIC SAFETY & HOMELAND SECURITY | TITLE: Wireless E911 Location Accuracy Requirements (PS Docket No. 07-114); E911 Requirements for IP-Enabled Service (WC Docket No. 05-196) SUMMARY: The Commission will consider a Further Notice of Proposed Rulemaking and Notice of Inquiry that seeks to improve E911 location accuracy and reliability for existing and new voice communication technologies, including Voice over Internet Protocol and, consistent with the National Broadband Plan, to understand the ways in which voice communications enabled by broadband and next generation 911 technologies could support enhanced first response.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary,
Office of the Secretary, Office of Managing Director.

[FR Doc. 2010-23705 Filed 9-17-10; 4:15 pm]

BILLING CODE 6712-01-S